DEPARTMENT OF AGRICULTURE

Foreign Agricultural Service

Refined Sugar Re-Export Program

Correction

In notice document 05-19577 appearing on page 57250 in the issue of September 30, 2005, make the following correction:

On page 57250, in the first column, in the 17th line, “can” should read “cane”

[FR Doc. C5-19577 Filed 10-17-05; 8:45 am]

BILLING CODE 1505-01-D